NUCLEAR REGULATORY COMMISSION

[Docket No. NRC-2012-0073]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register Notice with a 60-day comment period on this information collection on April 13, 2012 (77 FR 22360).

1. Type of submission, new, revision, or extension: Extension.

2. The title of the information collection: Generic Customer Satisfaction Surveys and NRC Form 671, Request for Review of a Customer Satisfaction Survey under Generic Clearance.

3. Current OMB approval number: 3150-0197.

4. The form number if applicable: NRC Form 671.

5. How often the collection is required: On occasion.

6. Who will be required or asked to report: NRC licensees and the public will be asked to report voluntarily.

7. An estimate of the number of annual responses: 3,988.

8. The estimated number of annual respondents: 3,884.

9. An estimate of the total number of hours needed annually to complete the requirement or request: 1,614 hours.

10. Abstract: Voluntary customer satisfaction surveys will be used to contact users of NRC services and products to determine how the Commission can improve its services and products to better meet their needs. In addition, focus groups will be conducted to discuss questions concerning those services and products. Results from the surveys will provide insight into how NRC can make its services and products cost effective, efficient and responsive to customer needs. Each survey will be submitted to OMB for its review.

The public may examine and have copied for a fee publicly available documents, including the final supporting statement, at the NRC's Public Document Room, Room O-1F21, One White Flint North, 11555 Rockville Pike, Rockville, Maryland 20852. OMB clearance requests are available at the NRC's Web site: http://www.nrc.gov/public-involve/doc-comment/omb/. The document will be available on the NRC home page site for 60 days after the signature date of this notice.

Comments and questions should be directed to the OMB reviewer listed below by August 13, 2012. Comments received after this date will be considered if it is practical to do so, but assurance of consideration cannot be given to comments received after this date.

Chad S. Whiteman, Desk Officer, Office of Information and Regulatory Affairs (3150-0197), NEOB-10202, Office of Management and Budget, Washington, DC 20503.

Comments can also be emailed to Chad_S_Whiteman@omb.eop.gov or submitted by telephone at: 202-395-4718.

The NRC Clearance Officer is Tremaine Donnell, 301-415-6258.

Dated at Rockville, Maryland, this 5th day of July, 2012.
For the Nuclear Regulatory Commission.
Brenda Miles,
Acting NRC Clearance Officer, Office of Information Services.

[FR Doc. 2012-17009 Filed 7-11-12; 8:45 am]

BILLING CODE 7590-01-P